DEPARTMENT OF COMMERCE

International Trade Administration

[A-570-848]

Freshwater Crawfish Tail Meat From the People's Republic of China: Initiation of Antidumping Duty New Shipper Reviews

AGENCY: Import Administration, International Trade Administration, Department of Commerce.

SUMMARY: The Department of Commerce (the Department) has received timely requests from Siyang Foreign Trade Co., Ltd. (Siyang FTC) and its producer Anhui Golden Bird Agricultural & Side-Line Products Development Co., Ltd. (Golden Bird), Yancheng Fuda Foods Co., Ltd. (Fuda), and Qingdao Xiyuan Refrigerate Food Co., Ltd. (Xiyuan) to conduct new shipper reviews of the antidumping duty order on freshwater crawfish tail meat from the People's Republic of China (PRC). Fuda and Xiyuan each produced and exported the subject merchandise. In accordance with section 751(a)(2)(B) of the Tariff Act of 1930, as amended (the Act), and section 351.214(d) of the Department's regulations, we are initiating these new shipper reviews.

EFFECTIVE DATE: November 6, 2003.

FOR FURTHER INFORMATION CONTACT: Douglas Kirby or Matthew Renkey, Office of AD/CVD Enforcement VII, Import Administration, International Trade Administration, U.S. Department of Commerce, 14th Street and Constitution Avenue, NW., Washington, DC 20230; telephone: (202) 482-3782 or (202) 482-2312, respectively.

Background

On July 28, 2003, the Department received a timely request from Siyang FTC, in accordance with section 751(a)(2)(B) of the Act and 19 CFR 351.214(c), for a new shipper review of this antidumping duty order on freshwater crawfish tail meat from the PRC, which has a September anniversary date. On September 29, 2003, the Department also received timely requests from Fuda and Xiyuan filed in accordance with the statute and regulations. Siyang FTC had made a previous request for a new shipper review which the Department initiated, but later rescinded based on Siyang's failure to provide the proper certifications pursuant to 19 CFR 351.214(b)(2). See Freshwater Crawfish Tail Meat for the People's Republic of China: Rescission of Antidumping Duty New Shipper Review, 68 FR 37115 (June 23, 2003). Siyang FTC has submitted the certifications required for the initiation of this current new shipper review.

As required by 19 CFR 351.214(b)(2)(i), (ii), and (iii)(A), Siyang FTC and its producer Golden Bird, along with Fuda, and Xiyuan have certified that they did not export freshwater crawfish tail meat to the United States during the period of investigation (POI), and that they have never been affiliated with any exporter or producer which exported freshwater crawfish tail meat to the United States during the POI. Siyang FTC, Fuda and Xiyuan have further certified that their export activities are not controlled by the central government of the PRC, pursuant to the requirements of 19 CFR 351.214(b)(2)(iii)(B). Pursuant to the Department's regulations at section 351.214(b)(2)(iv)(A), Siyang FTC, Fuda and Xiyuan each submitted documentation establishing both the date on which they first shipped the subject merchandise to the United States and the date of entry of that first shipment. Pursuant to the Department's regulations at sections 351.214(b)(2)(iv)(B) and (C), Siyang FTC, Fuda, and Xiyuan also provided documentation which established the volume of that shipment and the date of the first sale to an unaffiliated customer in the United States. Also pursuant to the Department's regulations at section 351.214(b)(2)(iv)(B), Siyang FTC reported the volume of subsequent shipments during the period of review (POR). Fuda and Xiyuan certified that they had no subsequent shipments. After reviewing the submissions with respect to the new shipper review requests filed on behalf of Siyang FTC, Fuda and Xiyuan, the Department found that they meet the threshhold for initiation in accordance with section 351.214(b) of the Department's regulations.

Initiation of Reviews

In accordance with section 751(a)(2)(B)(ii) of the Act and 19 CFR 351.214(d)(1), we are initiating new shipper reviews of the antidumping duty order on freshwater crawfish tail meat from the PRC.

In accordance with 19 CFR 351.214(g)(1)(i)(A) of the Department's regulations, the POR for a new shipper review, initiated in the month immediately following the anniversary month, will be the twelve-month period immediately preceding the anniversary month. Because of the timing of Siyang FTC's first shipment and the timing of the request, the Department has determined that it is appropriate in this review to extend the POR backwards for Siyang FTC to include its initial new shipper sale, which was made prior to the standard POR.

The PORs for these new shipper reviews are:

Antidumping duty new shipper reviews | Period to be reviewed
Siyang Foreign Trade Co., Ltd./Producer: Anhui Golden Bird Agricultural & Side-Line Products Development Co., Ltd. | 7/1/02-8/31/03
Yancheng Fuda Foods Co., Ltd. | 9/1/02-8/31/03
Qingdao Xiyuan Refrigerate Food Co., Ltd. | 9/1/02-8/31/03

We will instruct the U.S. Customs and Border Protection (CBP) to allow, at the option of the importer, the posting, until the completion of the review, of a single entry bond or security in lieu of a cash deposit for subject merchandise exported by and produced by the above listed companies. See 19 CFR 351.214(e). Siyang FTC certified that it exported but did not produce the subject merchandise on which it based its new shipper review requests, and Golden Bird certified that it produced the subject merchandise exported by Siyang FTC. Therefore, we will instruct CBP to limit the bonding option to entries of subject merchandise exported by Siyang FTC and produced by Golden Bird. Fuda and Xiyuan certified that they both produced and exported the subject merchandise. Therefore, we will instruct CBP to limit the bonding option to entries of subject merchandise both produced and exported by Fuda and Xiyuan.

Interested parties may submit applications for disclosure of business proprietary information under administrative protective order in accordance with 19 CFR 351.305 and 351.306.

These initiations and notice are in accordance with section 751(a)(2)(B) of the Act and 19 CFR 351.214.

Dated: October 31, 2003.
Joseph A. Spetrini,
Deputy Assistant Secretary for Import Administration, Group III.

[FR Doc. 03-27967 Filed 11-5-03; 8:45 am]

BILLING CODE 3510-DS-P